DEPARTMENT OF TRANSPORTATION

Federal Railroad Administration

[Docket Numbers FRA-2013-0128 and FRA-2014-0124]

Notice of Public Hearing

In accordance with Part 211 of Title 49 Code of Federal Regulations (CFR), this provides the public notice that by documents dated October 9, 2013 and November 18, 2014, the National Railroad Passenger Corporation (AMTRAK) petitioned the Federal Railroad Administration (FRA) for a waiver of compliance from certain provisions of the Federal railroad safety regulations governing the operation of passenger trains on the Northeast Corridor (NEC). Relief was also requested from speed limitations imposed by the Order of Particular Applicability for the Advanced Civil Speed Enforcement System (ACSES) Order. Specifically, Amtrak seeks relief from requirements that limit the current operation of its Tier II Acela trainsets to 150 mph from the current maximum authorized track speed for Class 8 track of 160 mph. In addition, Amtrak also requests relief from existing Tier II design requirements to allow for the procurement of new trainsets built to alternative design standards, as outlined in its petition. A previous notice was published outlining the details of Amtrak's petitions, on February 25, 2015 [80 FR 10208]. FRA assigned the petitions to Docket Numbers FRA-2013-0128 and FRA-2014-0124, respectively.

FRA has determined that the facts of these proceedings warrant a public hearing. Accordingly, a hearing is hereby scheduled to begin at 10:00 a.m. on July 22, 2015, at the National Housing Center, 1201 15th Street NW., Washington, DC 20005. Interested parties are invited to present oral statements at this hearing. For information on facilities or services for persons with disabilities, or to request special assistance at the hearing, contact FRA Program Analyst, Kenton Kilgore; by telephone, email, or in writing; at least five business days before the date of the hearing. Mr. Kilgore's contact information is as follows: FRA, Office of Railroad Safety, Mail Stop 25, 1200 New Jersey Avenue SE., Washington, DC 20590; (202) 493-6286; kenton.kilgore@dot.gov.

The informal hearing will be conducted by a representative designated by FRA in accordance with FRA's Rules of Practice (see particularly 49 CFR 211.25). FRA's representative will make an opening statement outlining the scope of the hearing, as well as any additional procedures for the conduct of the hearing. The hearing will be a non-adversarial proceeding in which all interested parties will be given the opportunity to express their views regarding the waiver petition without cross examination. After all initial statements have been completed, those individuals wishing to make brief rebuttal statements will be given an opportunity to do so.

A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

In addition, FRA is hereby extending the comment period for these waiver petitions to August 21, 2015, to allow adequate time for any additional comments to be submitted following the public hearing on July 22, 2015. Communications received by that date will be considered by FRA before final action is taken. Comments received after that date will be considered as far as practicable. All communications concerning these proceedings should identify the appropriate docket numbers and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on June 10, 2015.
Ron Hynes,
Director, Office of Technical Oversight.

[FR Doc. 2015-14632 Filed 6-12-15; 8:45 am]

BILLING CODE 4910-06-P